DEPARTMENT OF THE INTERIOR

Fish and Wildlife Service

Proposed Low-Effect Safe Harbor Agreement for the Southwestern Willow Flycatcher for Landowners Restoring, Enhancing, or Managing Riparian Habitats in Washington, Iron, Garfield, Kane, Emery, Grand, Wayne, and San Juan Counties, Utah

AGENCY: Fish and Wildlife Service, Interior.

ACTION: Notice of availability; receipt of application.

SUMMARY: This notice advises the public that the Color Country Resource Conservation and Development Council, Inc. (Applicant) has applied to the U.S. Fish and Wildlife Service (Service) for an enhancement of survival permit (permit) for the Southwestern willow flycatcher (flycatcher) pursuant to section 10(a)(1)(A) of the Endangered Species Act of 1973, as amended (Act). This permit application includes a Programmatic Safe Harbor Agreement (Agreement) between the Applicant and the Service. The Service requests information, views, and opinions from the public via this notice. Further, the Service is soliciting information regarding the adequacy of the Programmatic Agreement as measured against the Service's Safe Harbor Policy and the regulations that implement it.

DATES: Written comments on the permit application must be received on or before June 6, 2008.

ADDRESSES: Comments should be addressed to Laura Romin, U.S. Fish and Wildlife Service, 2369 West Orton Circle, Suite 50, West Valley City, Utah 84119. Written comments may be sent by facsimile to (801) 975-3331.

FOR FURTHER INFORMATION CONTACT: Laura Romin, Utah Field Office Assistant Field Supervisor (see ADDRESSES), telephone (801) 975-3330.

SUPPLEMENTARY INFORMATION:

Availability of Documents

You may obtain copies of the documents for review by contacting the individual named above. You also may make an appointment to view the documents at the above address during normal business hours.

Public Availability of Comments

Before including your address, phone number, e-mail address, or other personal identifying information in your comment, you should be aware that your entire comment—including your personal identifying information—may be made publicly available at any time. While you can ask us in your comment to withhold your personal identifying information from public review, we cannot guarantee that we will be able to do so.

Background

Under a Safe Harbor Agreement, participating landowners voluntarily undertake management activities on their property to enhance, restore, or maintain habitat benefiting species listed under the Act. Safe Harbor Agreements, and the subsequent permits that are issued pursuant to section 10(a)(1)(A) of the Act (16 U.S.C. 1531 et seq.), encourage private and other non-Federal property owners to implement conservation efforts for listed species by assuring property owners that they will not be subjected to increased land use restrictions as a result of efforts to attract or increase the numbers or distribution of a listed species on their property. Application requirements and issuance criteria for permits through Safe Harbor Agreements are found in 50 CFR 17.22(c).

We have worked with the Applicant to develop this proposed Programmatic Agreement for the conservation of the flycatcher in Washington, Iron, Garfield, Kane, Emery, Garfield, Wayne, and San Juan Counties, Utah. Within the 25,661,861 hectares (63,411,840 acres) of land within the above-named counties, landowners will be able to enroll non-Federal properties on which habitat for flycatcher will be restored, enhanced, and managed pursuant to a written agreement between the Applicant and a property owner. We have made a preliminary determination that the Agreement qualifies as a low-effect plan.

This Agreement provides for the creation of a Program in which private landowners (Program Participants) enter into written cooperative agreements with the Applicant pursuant to the terms of the Agreement, to restore, enhance, and maintain riparian habitat in ways beneficial to the flycatcher. Such cooperative agreements will be for a term of at least 15 years. The proposed duration of the Agreement and permit is 50 years. The Agreement fully describes the proposed management activities to be undertaken by Program Participants and the conservation benefits expected to be gained for the flycatcher.

Upon approval of this Agreement, and consistent with the Service's Safe Harbor Policy published in the Federal Register on June 17, 1999 (64 FR 32717), the Service would issue a permit to the applicant authorizing take of flycatcher by Program Participants incidental to the implementation of the management activities specified in the cooperative agreements, incidental to other lawful uses of the properties, including normal routine land management activities, and/or to return to pre-Agreement conditions. To benefit the flycatcher, Program Participants will agree to undertake site-specific management activities, which will be specified in their written cooperative agreements.

Management activities that could be included in the Cooperative Agreements will provide for the restoration, enhancement and management of native riparian habitats in the range of the flycatcher in Utah. The object of such activities is to enhance populations of flycatchers by increasing the amount and quality of suitable habitat on the enrolled properties. Take of flycatchers incidental to the aforementioned activities is unlikely; however, it is possible that in the course of such activities or other lawful activities on the enrolled property, a Program Participant could incidentally take flycatcher thereby necessitating take authority under the permit.

Pre-Agreement conditions (baseline), consisting of survey for flycatchers and documentation on the extent of habitat shall be determined for each enrolled property as provided in the Agreement. In order to receive the above assurances regarding incidental take of flycatchers, a Program Participant must maintain baseline on the enrolled property. The Agreement and requested permit would allow each Program Participant to return to baseline conditions after the end of the term of the cooperative agreement (minimum of 15 years) and prior to the expiration of the 50-year permit, if so desired by the Applicants.

Public Review and Comments

The Service has made a preliminary determination that the proposed Agreement and permit application are eligible for categorical exclusion under the National Environmental Policy Act of 1969 (NEPA). We explain the basis for this determination in an Environmental Action Statement, which also is available for public review.

Individuals wishing copies of the permit application, copies of our draft Environmental Action Statement, and/or copies of the Agreement, including a map of the proposed permit area and references, should contact the office and personnel listed in the ADDRESSES section above.

If you wish to comment on the permit application or the Agreement, you may submit your comments to the address listed in the ADDRESSES section of this document. Comments and materials received, including names and addresses of respondents, will be available for public review, by appointment, during normal business hours at the address in the ADDRESSES section above and will become part of the public record, pursuant to section 10(c) of the Act. Individual respondents may request that we withhold their home address from the record, which we will honor to the extent allowable by law. There also may be circumstances in which we would withhold from the record a respondent's identity, as allowable by law. If you wish us to withhold your name and/or address, you must state this prominently at the beginning of your comment. Anonymous comments will not be considered. All submissions from organizations or businesses, and from individuals identifying themselves as representatives or officials of organizations or businesses, are available for public inspection in their entirety.

We will evaluate this permit application, associated documents, and comments submitted thereon to determine whether the permit application meets the requirements of section 10(a) of the Act and NEPA regulations at 40 CFR 1506.6. If we determine that the requirements are met, we will sign the proposed Agreement and issue a permit under section 10(a)(1)(A) of the Act to the Applicants for take of the flycatcher incidental to otherwise lawful activities in accordance with the terms of the Agreement. We will not make our final decision until after the end of the 30-day comment period and will fully consider all comments received during the comment period.

The Service provides this notice pursuant to section 10(c) of the Act and pursuant to implementing regulations for NEPA (40 CFR 1506.6).

Dated: March 6, 2008.
Larry Crist,
Field Supervisor, Utah Field Office, West Valley City, Utah.

[FR Doc. E8-10055 Filed 5-6-08; 8:45 am]

BILLING CODE 4310-55-P